DEPARTMENT OF TRANSPORTATION

Federal Aviation Administration

14 CFR Part 97

[Docket No. 31391; Amdt. No. 3975]

Standard Instrument Approach Procedures, and Takeoff Minimums and Obstacle Departure Procedures; Miscellaneous Amendments

AGENCY: Federal Aviation Administration (FAA), DOT.

ACTION: Final rule.

SUMMARY: This rule establishes, amends, suspends, or removes Standard Instrument Approach Procedures (SIAPS) and associated Takeoff Minimums and Obstacle Departure procedures (ODPs) for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective October 4, 2021. The compliance date for each SIAP, associated Takeoff Minimums, and ODP is specified in the amendatory provisions.

The incorporation by reference of certain publications listed in the regulations is approved by the Director of the Federal Register as of October 4, 2021.

ADDRESSES: Availability of matters incorporated by reference in the amendment is as follows:

For Examination

1. U.S. Department of Transportation, Docket Ops-M30. 1200 New Jersey Avenue SE, West Bldg., Ground Floor, Washington, DC 20590-0001.

2. The FAA Air Traffic Organization Service Area in which the affected airport is located;

3. The office of Aeronautical Information Services, 6500 South MacArthur Blvd., Oklahoma City, OK 73169 or,

4. The National Archives and Records Administration (NARA). For information on the availability of this material at NARA, email fr.inspection@nara.gov or go to: https://www.archives.gov/federal-register/cfr/ibr-locations.html.

Availability

All SIAPs and Takeoff Minimums and ODPs are available online free of charge. Visit the National Flight Data Center at nfdc.faa.gov to register. Additionally, individual SIAP and Takeoff Minimums and ODP copies may be obtained from the FAA Air Traffic Organization Service Area in which the affected airport is located.

FOR FURTHER INFORMATION CONTACT: Thomas J. Nichols, Flight Procedures and Airspace Group, Flight Technologies and Procedures Division, Flight Standards Service, Federal Aviation Administration. Mailing Address: FAA Mike Monroney Aeronautical Center, Flight Procedures and Airspace Group, 6500 South MacArthur Blvd., Registry Bldg. 29 Room 104, Oklahoma City, OK 73169. Telephone (405) 954-4164.

SUPPLEMENTARY INFORMATION: This rule amends 14 CFR part 97 by establishing, amending, suspending, or removes SIAPS, Takeoff Minimums and/or ODPS. The complete regulatory description of each SIAP and its associated Takeoff Minimums or ODP for an identified airport is listed on FAA form documents which are incorporated by reference in this amendment under 5 U.S.C. 552(a), 1 CFR part 51, and 14 CFR part 97.20. The applicable FAA Forms 8260-3, 8260-4, 8260-5, 8260-15A, 8260-15B, when required by an entry on 8260-15A, and 8260-15C.

The large number of SIAPs, Takeoff Minimums and ODPs, their complex nature, and the need for a special format make publication in the Federal Register expensive and impractical. Further, airmen do not use the regulatory text of the SIAPs, Takeoff Minimums or ODPs, but instead refer to their graphic depiction on charts printed by publishers or aeronautical materials. Thus, the advantages of incorporation by reference are realized and publication of the complete description of each SIAP, Takeoff Minimums and ODP listed on FAA form documents is unnecessary. This amendment provides the affected CFR sections and specifies the typed of SIAPS, Takeoff Minimums and ODPs with their applicable effective dates. This amendment also identifies the airport and its location, the procedure, and the amendment number.

Availability and Summary of Material Incorporated by Reference

The material incorporated by reference is publicly available as listed in the ADDRESSES section.

The material incorporated by reference describes SIAPS, Takeoff Minimums and/or ODPs as identified in the amendatory language for part 97 of this final rule.

The Rule

This amendment to 14 CFR part 97 is effective upon publication of each separate SIAP, Takeoff Minimums and ODP as amended in the transmittal. Some SIAP and Takeoff Minimums and textual ODP amendments may have been issued previously by the FAA in a Flight Data Center (FDC) Notice to Airmen (NOTAM) as an emergency action of immediate flights safety relating directly to published aeronautical charts.

The circumstances that created the need for some SIAP and Takeoff Minimums and ODP amendments may require making them effective in less than 30 days. For the remaining SIAPs and Takeoff Minimums and ODPs, an effective date at least 30 days after publication is provided.

Further, the SIAPs and Takeoff Minimums and ODPs contained in this amendment are based on the criteria contained in the U.S. Standard for Terminal Instrument Procedures (TERPS). In developing these SIAPs and Takeoff Minimums and ODPs, the TERPS criteria were applied to the conditions existing or anticipated at the affected airports. Because of the close and immediate relationship between these SIAPs, Takeoff Minimums and ODPs, and safety in air commerce, I find that notice and public procedure under 5 U.S.C. 553(b) are impracticable and contrary to the public interest and, where applicable, under 5 U.S.C. 553(d), good cause exists for making some SIAPs effective in less than 30 days.

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

Lists of Subjects in 14 CFR Part 97

Air traffic control, Airports, Incorporation by reference, Navigation (air).

Issued in Washington, DC, on September 17, 2021.
Thomas J. Nichols,
Aviation Safety, Flight Standards Service, Manager, Standards Section, Flight Procedures & Airspace Group, Flight Technologies & Procedures Division.

Adoption of the Amendment

Accordingly, pursuant to the authority delegated to me, Title 14, Code of Federal Regulations, Part 97 (14 CRF part 97) is amended by establishing, amending, suspending, or removing Standard Instrument Approach Procedures and/or Takeoff Minimums and Obstacle Departure Procedures effective at 0901 UTC on the dates specified, as follows:

PART 97—STANDARD INSTRUMENT APPROACH PROCEDURES

1. The authority citation for part 97 continues to read as follows:

Authority: 49 U.S.C. 106(f), 106(g), 40103, 40106, 40113, 40114, 40120, 44502, 44514, 44701, 44719, 44721-44722.

2. Part 97 is amended to read as follows:

Effective 4 November 2021

Atlanta, GA, KFFC, ILS OR LOC RWY 31, Amdt 3

Atlanta, GA, KFFC, NDB RWY 31, Amdt 4

Atlanta, GA, KFFC, RNAV (GPS) RWY 13, Amdt 4

Atlanta, GA, KFFC, RNAV (GPS) RWY 31, Amdt 4

Hickory, NC, KHKY, RNAV (GPS) RWY 1, Amdt 1B

Silver Springs, NV, Silver Springs, Takeoff Minimums and Obstacle DP, Orig-A

Effective 2 December 2021

Crooked Creek, AK, Crooked Creek, AJOFY ONE Graphic DP

Crooked Creek, AK, PACJ, RNAV (GPS) RWY 14, Orig

Crooked Creek, AK, Crooked Creek, Takeoff Minimums and Obstacle DP, Orig

Koyukuk, AK, Koyukuk, DIBVY THREE Graphic DP

Koyukuk, AK, PFKU, RNAV (GPS) RWY 7, Amdt 1

Koyukuk, AK, PFKU, RNAV (GPS) RWY 25, Amdt 1

Oceanside, CA, KOKB, RNAV (GPS) RWY 7, Amdt 1

Oceanside, CA, KOKB, RNAV (GPS) RWY 25, Amdt 1

Jacksonville, FL, KJAX, RNAV (RNP) Y RWY 26, Amdt 1B

West Palm Beach, FL, KPBI, RNAV (GPS) X RWY 28R, Orig-A, CANCELLED

West Palm Beach, FL, KPBI, RNAV (RNP) W RWY 28R, Orig, CANCELLED

Sylvania, GA, KJYL, NDB RWY 23, Amdt 3, CANCELLED

Chicago, IL, Chicago O'Hare Intl, Takeoff Minimums and Obstacle DP, Amdt 23

Flora, IL, KFOA, LOC RWY 21, Orig-E

Rantoul, IL, KTIP, VOR RWY 27, Amdt 2

Madison, IN, KIMS, RNAV (GPS) Y RWY 3, Orig-A

Anthony, KS, KANY, RNAV (GPS) RWY 18, Amdt 2

Anthony, KS, KANY, RNAV (GPS) RWY 36, Orig-C

Anthony, KS, Anthony Muni, Takeoff Minimums and Obstacle DP, Amdt 1

Elizabethtown, KY, KEKX, ILS OR LOC RWY 5, Orig-A

Monroe, LA, KMLU, RNAV (GPS) RWY 32, Amdt 1A

Monroe, LA, Monroe Rgnl, Takeoff Minimums and Obstacle DP, Amdt 6A

Monroe, LA, KMLU, VOR RWY 32, Amdt 5A

Winnfield, LA, 0R5, RNAV (GPS) RWY 9, Orig-D

Winnfield, LA, 0R5, RNAV (GPS) RWY 27, Orig-C

Bedford, MA, KBED, RNAV (GPS) Z RWY 11, Amdt 3

Annapolis, MD, KANP, RNAV (GPS)-A, Orig-B

Carrabassett, ME, B21, RNAV (GPS)-A, Amdt 1A

Ludington, MI, KLDM, RNAV (GPS) RWY 8, Orig-E

Ludington, MI, KLDM, RNAV (GPS) RWY 26, Orig-C

Newberry, MI, KERY, RNAV (GPS) RWY 11, Orig-B

Hallock, MN, KHCO, RNAV (GPS) RWY 13, Amdt 1

Hallock, MN, KHCO, RNAV (GPS) RWY 31, Amdt 2

Hallock, MN, KHCO, VOR/DME RWY 31, Amdt 7A, CANCELLED

International Falls, MN, KINL, RNAV (GPS) RWY 14, Orig, CANCELLED

International Falls, MN, KINL, RNAV (GPS) RWY 32, Orig, CANCELLED

Roseau, MN, Roseau Muni/Rudy Billberg Fld, Takeoff Minimums and Obstacle DP, Orig-A

Columbia, MO, KCOU, ILS OR LOC RWY 2, Amdt 17

Columbia, MO, KCOU, LOC BC RWY 20, Amdt 13A, CANCELLED

Columbia, MO, KCOU, RNAV (GPS) RWY 2, Amdt 2C

Columbia, MO, KCOU, RNAV (GPS) RWY 20, Amdt 3

Columbia, MO, Columbia Rgnl, Takeoff Minimums and Obstacle DP, Amdt 7

Columbia, MO, KCOU, VOR Y RWY 20, Amdt 5

Columbia, MO, KCOU, VOR Z RWY 20, Amdt 6

Great Falls, MT, KGTF, VOR RWY 3, Amdt 17C

Cavalier, ND, 2C8, RNAV (GPS) RWY 34, Amdt 1B

Beatrice, NE, KBIE, RNAV (GPS) RWY 18, Amdt 2C

Hartington, NE, 0B4, RNAV (GPS) RWY 31, Orig-F

Hartington, NE, 0B4, VOR/DME RWY 31, Orig-D, CANCELLED

Hobbs, NM, KHOB, LOC BC RWY 21, Amdt 6B, CANCELLED

Batavia, NY, KGVQ, RNAV (GPS) RWY 10, Orig-B

Le Roy, NY, 5G0, RNAV (GPS) RWY 10, Orig-E

New York, NY, KSWF, RNAV (GPS) RWY 16, Amdt 1E

Marysville, OH, Union County, RNAV (GPS) RWY 27, Orig-C

Enid, OK, KWDG, ILS OR LOC RWY 35, Amdt 7B

Enid, OK, KWDG, RNAV (GPS) RWY 17, Amdt 1B

Enid, OK, KWDG, RNAV (GPS) RWY 35, Amdt 2A

Enid, OK, KWDG, VOR RWY 17, Amdt 13B

Enid, OK, KWDG, VOR RWY 35, Amdt 15B

Grove, OK, KGMJ, VOR/DME-A, Amdt 1A, CANCELLED

Muskogee, OK, KMKO, RNAV (GPS) RWY 4, Amdt 1D

Oklahoma City, OK, KHSD, VOR RWY 18, Amdt 1H

Watonga, OK, KJWG, RNAV (GPS) RWY 17, Orig-B

Watonga, OK, KJWG, VOR/DME-A, Amdt 3A, CANCELLED

Corvallis, OR, Corvallis Muni, Takeoff Minimums and Obstacle DP, Amdt 7

Gold Beach, OR, 4S1, RNAV (GPS)-A, ORIG

Pottsville, PA, KZER, RNAV (GPS) RWY 29, Amdt 3

Quakertown, PA, KUKT, RNAV (GPS) RWY 29, Amdt 1D

Sioux Falls, SD, KFSD, RNAV (GPS) RWY 33, Amdt 2A

Athens, TN, KMMI, NDB RWY 2, Amdt 6B, CANCELLED

Knoxville, TN, KTYS, ILS OR LOC RWY 23R, ILS RWY 23R (SA CAT I), ILS RWY 23R (CAT II), Amdt 14A

Abilene, TX, Abilene Regional, RADAR-1, Amdt 10, CANCELLED

Bryan, TX, KCFD, VOR/DME-A, Amdt 3A, CANCELLED

Mineola, TX, 3F9, RNAV (GPS)-A, Orig, CANCELLED

Mineola, TX, Mineola Wisener Field, Takeoff Minimums and Obstacle DP, Orig-B, CANCELLED

Uvalde, TX, KUVA, NDB RWY 33, Amdt 2A, CANCELLED

Delta, UT, Delta Muni, Takeoff Minimums and Obstacle DP, Amdt 1

Kenosha, WI, KENW, ILS OR LOC 7L, Amdt 4

Neillsville, WI, Neillsville Muni, Takeoff Minimums and Obstacle DP, Orig-A

Park Falls, WI, Park Falls Muni, Takeoff Minimums and Obstacle DP, Amdt 1

Shawano, WI, KEZS, RNAV (GPS) RWY 12, Orig-B

Shawano, WI, KEZS, RNAV (GPS) RWY 30, Orig-C

[FR Doc. 2021-21469 Filed 10-1-21; 8:45 am]

BILLING CODE 4910-13-P